DEPARTMENT OF HEALTH AND HUMAN SERVICES

National Institutes of Health

National Institute of Mental Health; Amended Notice of Meeting

Notice is hereby given of a change in the meeting of the Board of Scientific Counselors, National Institute of Mental Health, January 19, 2021, 3:00 p.m. to January 22, 2021, 6:00 p.m., PORTER NEUROSCIENCE RESEARCH CENTER, Building 35A, 35 Convent Drive, Bethesda, MD 20892 which was published in the Federal Register on December 23, 2020, 85 FR 83981.

This notice is being amended to update the dates of the meeting. The meeting will now be held on January 21-22, 2021 only. The format remains virtual. The meeting is closed to the public.

Dated: December 30, 2020.
Melanie J. Pantoja,
Program Analyst, Office of Federal Advisory Committee Policy.

[FR Doc. 2020-29203 Filed 1-5-21; 8:45 am]

BILLING CODE 4140-01-P